FEDERAL ACCOUNTING STANDARDS ADVISORY BOARD

Notice of Issuance of Annual Report for Fiscal Year 2016 and Three-Year Plan

AGENCY: Federal Accounting Standards Advisory Board

ACTION: Notice.

Board Action: Pursuant to 31 U.S.C. 3511(d, the Federal Advisory Committee Act (Pub. L. 92-463), as amended, and the FASAB Rules Of Procedure, as amended in October 2010, notice is hereby given that the Federal Accounting Standards Advisory Board (FASAB) has issued its Annual Report for Fiscal Year 2016 and Three-Year Plan. The Board also plans to conduct online surveys to help in assessing the most important priorities for the future and the next steps in its reporting model and performance reporting projects. The annual planning survey is available at https://tell.gao.gov/fasabplanning. The financial and performance reporting survey is available at https://tell.gao.gov/fasabreporting/. The surveys will open on November 30, 2016, and close on January 30, 2017.

The Annual Report for Fiscal Year 2016 and Three-Year Plan is available on the FASAB Web site at http://www.fasab.gov/our-annual-reports/. Copies can be obtained by contacting FASAB at (202) 512-7350.

FOR FURTHER INFORMATION CONTACT: Ms. Wendy M. Payne, Executive Director, 441 G Street NW., Mailstop 6H19, Washington, DC 20548, or call (202) 512-7350.

Authority: Federal Advisory Committee Act, Pub. L. 92-463.

Dated: November 22, 2016.
Wendy M. Payne,
Executive Director.

[FR Doc. 2016-28615 Filed 11-28-16; 8:45 am]

BILLING CODE 1610-02-P